NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 31, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Records Management Services (ACNR), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service, Agency-wide (N1-584-11-1, 4 items, 1 temporary item). Records related to food safety and educational outreach campaigns, including working papers. Proposed for permanent retention are press releases, fact sheets, slogans, posters, publications, videos, and public service announcements.

2. Department of the Army, Agency-wide (N1-AU-10-18, 1 item, 1 temporary item). Master files of an electronic information system containing military intelligence reports and related data.

3. Department of the Army, Agency-wide (N1-AU-10-28, 1 item, 1 temporary item). Master files of an electronic information system that contains information used to develop installation master plans, including personnel and equipment allowances, space requirements, and facility analysis data.

4. Department of the Army, Agency-wide (N1-AU-10-30, 1 item, 1 temporary item). Master files of an electronic information system that tracks personnel access authorizations to secure buildings and facilities.

5. Department of the Army, Agency-wide (N1-AU-10-37, 1 item, 1 temporary item). Master files of an electronic information system containing facility ratings, housing data, and cost and work management data used in the management of installations.

6. Department of the Army, Agency-wide (N1-AU-10-55, 1 item, 1 temporary item). Master files of an electronic information system containing supply and project status information related to the support of maintenance, renovation, repair, and demilitarization of returned munitions.

7. Department of the Army, Agency-wide (N1-AU-10-59, 1 item, 1 temporary item). Master files of an electronic information system containing individual academic records.

8. Department of Defense, National Security Agency (N1-457-11-2, 1 item, 1 temporary item). Records of the Policy and Records Division related to the review of employee resumes and other biographic information for release outside the agency.

9. Department of Homeland Security, Transportation Security Administration (N1-560-11-1, 2 items, 2 temporary items). Records of workplace violence case files at the national and local level, consisting of reference materials, drafts, photographs, reports, statements, and after action activities documentation.

10. Department of Homeland Security, U.S. Secret Service (N1-87-11-5, 2 items, 1 temporary item). Records containing reference copies and background materials for the creation of statistical publications and reports. Proposed for permanent retention are calendar and fiscal year statistical publications and reports of agency activities.

11. Department of State, United States Mission to the United Nations (N1-84-09-01, 8 items, 6 temporary items). Records of the Research Unit, including lists of delegates and employees of the mission, requests for election support of candidates, and copies of telegrams maintained in other recordkeeping systems. Proposed for permanent retention are research memorandums and daily schedules of the Permanent Representative and acting Permanent Representative to the United Nations.

12. Department of Transportation, Federal Highway Administration (N1-406-09-3, 48 items, 34 temporary items). Records of the Office of Administration, including administrative files, directives files, requisition files, project files, reference files, contracts, invoices, and correspondence. Proposed for permanent retention are record copies of publications, directives, technical advisories, photographs, posters, motion pictures, video, and sound recordings.

13. Securities and Exchange Commission, Office of Administrative Services (N1-266-11-3, 2 items, 2 temporary items). Master files of an electronic information system used for physical access and monitoring.

14. Securities and Exchange Commission, Office of Administrative Services (N1-266-11-4, 1 item, 1 temporary item). Master files of an electronic information system used for security visual monitoring.

Dated: September 22, 2011.
Paul M. Wester, Jr.,
Chief Records Officer for the U.S. Government.

[FR Doc. 2011-25241 Filed 9-29-11; 8:45 am]

BILLING CODE 7515-01-P